DEPARTMENT OF COMMERCE

National Oceanic and Atmospheric Administration

Agency Information Collection Activities; Submission to the Office of Management and Budget (OMB) for Review and Approval; Comment Request; Paperwork Submissions Under the Coastal Zone Management Act Federal Consistency Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 15, 2022 (87 FR 56635), during a 60-day comment period. This notice allows for an additional 30 days for public comments.

Agency: National Oceanic and Atmospheric Administration, Commerce.

Title: Paperwork Submissions Under the Coastal Zone Management Act Federal Consistency Requirements.

OMB Control Number: 0648-0411.

Form Number(s): None.

Type of Request: Regular submission (extension of an existing information collection).

Number of Respondents: 2,334.

Average Hours per Response: Applications/certifications and state preparation of objection or concurrence letters, 8 hours each; state requests for review of unlisted activities, 4 hours; public notices, 1 hour; interstate listing notices, 30 hours; mediation, 2 hours; appeals to the Secretary of Commerce, 210 hours.

Total Annual Burden Hours: 35,779.

Needs and Uses: This is a request to extend a currently approved information collection made by the Office for Coastal Management within the National Ocean Service of the National Oceanic and Atmospheric Administration pursuant to the requirements of Section 307 of the Coastal Zone Management Act (16 U.S.C. 1456) and its implementing regulations at 15 CFR part 930. Information collected pursuant to these requirements is used by states to determine the consistency of proposed federal actions with the enforceable policies of State coastal management programs (CMPs), and by NOAA when deciding appeals to State objections in the exercise of the review authority that the CZMA provides.

The Coastal Zone Management Act (CZMA) creates a State-federal partnership to improve the management of the nation's coastal zone through the development of federally approved State CMPs. The CZMA provides two incentives for States to develop federally approved CMPs: (1) the National Oceanic and Atmospheric Administration (NOAA) has appropriated monies to grant to States to develop and implement State CMPs that meet statutory and regulatory criteria; and (2) the CZMA requires federal agencies, non-federal licensees, and State and local government recipients of federal assistance to conduct their activities in a manner “consistent” with the enforceable policies of NOAA-approved CMPs. The latter incentive, referred to as the “federal consistency” provision, is found at 16 U.S.C. 1456. NOAA's regulations at 15 CFR part 930 implement NOAA's responsibilities to provide procedures for the consistency provision, the procedures available for an appeal of a State's objection to a consistency certification as provided for in 16 U.S.C. 1456(c)(3)(A) and (B) and 1456(d), and changes in the appeal process created by Congressional amendments in 1990, 1996 and 2005, and found at 16 U.S.C. 1465.

Paperwork and information collection routinely occurs by State CMPs pursuant to the CZMA federal consistency review requirements. Federal agencies proposing an action that may have reasonably foreseeable effects to coastal uses or resources must provide a consistency determination to affected states. The information requirements for consistency determinations are specified at 15 CFR 930.39. Non-federal applicants for federal licenses, permits and other forms of authorization that are listed by state CMPs as subject to review, must submit a statement certifying the consistency of the proposed activity to state CMPs pursuant to 15 CFR 930.57 accompanied by the necessary data and information specified at 15 CFR 930.58. Necessary data and information includes a copy of the application for the Federal license or permit; all material relevant to the State CMP provided to the Federal agency in support of the license or permit request; a detailed description of the proposed activity, its associated facilities and coastal effects; information specifically identified in the State CMP; and an evaluation that includes findings relating to the coastal effects of the proposal and its associated facilities to the relevant enforceable policies of the State CMP. For State and local agency applicants for federal financial assistance, the application shall be forwarded to the State CMP through the intergovernmental review process established pursuant to E.O. 12372, or submitted directly to the State CMP if the federal financial assistance is listed in the State CMP as subject to review. See 15 CFR 930.94.

Information is provided to NOAA only when there is a State objection to a proposed federal license or permit, or federal financial assistance; when informal mediation is sought by a Federal agency or State; or when an applicant for a federal license or permit, or federal financial assistance appeals to the Secretary of Commerce for an override to a State CMP objection to the issuance of the authorization, or award of assistance. Last, in 1990, Congress required State CMPs to provide for public participation in their permitting processes, consistency determinations and similar decisions. See 16 U.S.C. 1455(d)(14). How the public participation requirement is met is determined by each state with NOAA approval of the participation process.

These submissions are intended to provide a reasonable, efficient, and predictable means of complying with CZMA requirements. The information will be used by coastal states with federally-approved Coastal Zone Management Programs to determine if Federal agency activities, Federal license or permit activities, and Federal assistance activities that affect a state's coastal zone are consistent with the state's coastal management program.

Information developed for and during state reviews will also be collected and considered by NOAA for appeals filed by non-federal applicants seeking an override of state CZMA objections to federal license or permit activities or Federal assistance activities.

There have been no changes to the information collection requirements, their applicability or the methods of collection since the previous Paperwork Reduction Act extension.

Affected Public: Federal and state agencies, federal license and permit applicants, lessees under the Outer Continental Shelf Lands Act, applicants for federal financial assistance to state and local governments.

Frequency: With the state review process under the CZMA being part of the federal decision-making process for proposed federal actions, the reviews have the same frequency as other regulatory compliance reviews.

Respondent's Obligation: Required to obtain or retain services or benefits.

Legal Authority: 16 U.S.C. 1456, 15 CFR part 930.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0411.

Sheleen Dumas,
Department PRA Clearance Officer, Office of the Chief Information Officer, Commerce Department.

[FR Doc. 2023-00400 Filed 1-10-23; 8:45 am]

BILLING CODE 3510-08-P